OFFICE OF GOVERNMENT ETHICS

Updated OGE Senior Executive Service Performance Review Board

AGENCY: Office of Government Ethics (OGE).

ACTION: Notice.

SUMMARY: Notice is hereby given of the appointment of members of the updated OGE Senior Executive Service (SES) Performance Review Board.

EFFECTIVE DATE: October 22, 2003.

FOR FURTHER INFORMATION CONTACT: Daniel D. Dunning, Deputy Director for Administration and Information Management, Office of Government Ethics, Suite 500, 1201 New York Avenue, NW., Washington, DC 20005-3917; Telephone: (202) 482-9300; TDD: (202) 208-9293; FAX: (202) 482-9237.

SUPPLEMENTARY INFORMATION: 5 U.S.C. 4314(c) requires each agency to establish, in accordance with regulations prescribed by the Office of Personnel Management at 5 CFR part 430, subpart C and § 430.310 thereof in particular, one or more Senior Executive Service performance review boards. As a small executive branch agency, OGE has just one board. In order to ensure an adequate level of staffing and to avoid a constant series of recusals, the designated members of OGE's SES Performance Review Board are being drawn, as in the past, largely from the ranks of other agencies. The board shall review and evaluate the initial appraisal of each OGE senior executive's performance by his or her supervisor, along with any recommendations in each instance to the appointing authority relative to the performance of the senior executive. This notice updates the membership of OGE's SES Performance Review Board as it was last published at 66 FR 57106 (November 14, 2001).

Approved: October 16, 2003.
Amy L. Comstock,
Director, Office of Government Ethics.

The following have been selected as regular members of the SES Performance Review Board of the Office of Government Ethics:

Marilyn L. Glynn [Chair], General Counsel, Office of Government Ethics;

John J. Covaleski, Deputy Director for Agency Programs, Office of Government Ethics;

Joseph E. Gangloff, Senior Counsel, Office of International Affairs, Department of Justice;

Rosalind A. Knapp, Deputy General Counsel, Department of Transportation;

Steven Y. Winnick, Deputy General Counsel, Department of Education.

[FR Doc. 03-26655 Filed 10-21-03; 8:45 am]

BILLING CODE 6345-02-P